NATIONAL SCIENCE FOUNDATION

Special Emphasis Panel in Physics; Notice of Meeting

In accordance with the Federal Advisory Committee Act (Pub. L. 92-463, as amended), the National Science Foundation announces the following meeting:

Name: Special Emphasis Panel in Physics (1208).

Date and Time: November 1-3, 2000 at 8 a.m. to 5 p.m.

Place: National Science Foundation, 4201 Wilson Blvd., Room 1020, Arlington, VA.

Type of Meeting: Closed.

Contact Person: Dr. John Lightbody, 4201 Wilson Boulevard, Arlington, VA 22230, (703) 292-4628.

Purpose of Meeting: To provide advice and recommendations concerning pre-proposals submitted in response to the Physics Centers proposal solicitation (NSF 00-108).

Agenda: To review and evaluate pre-proposals as part of the selection process for awards.

Reason for Closing: The pre-proposals being reviewed include information of a proprietary or confidential nature, including technical information; information on personnel and proprietary date for present and future subcontracts. These matters are exempt under 5 U.S.C. 552b(c), (4) and (6) of the Government in the Sunshine Act.

Dated: October 10, 2000.
Karen J. York,
Committee Management Officer.

[FR Doc. 00-26321 Filed 10-12-00; 8:45 am]

BILLING CODE 7555-01-M